DEPARTMENT OF TRANSPORTATION

Surface Transportation Board

[STB Finance Docket No. 35329]

A&R Terminal Railroad Company—Acquisition and Operation Exemption—A&R Logistics, Inc.

A&R Terminal Railroad Company (ARTR), a noncarrier, has filed a verified notice of exemption under 49 CFR 1150.31 to acquire, by lease, and to operate A&R Logistics, Inc.'s (A&R) Morris Transload Facility and approximately 6.25 miles of right-of-way and trackage located in the transload facility, in Morris, IL.¹

¹ The Morris Transload Facility trackage is not described by milepost numbers.

ARTR states that the rail line to be acquired and operated by ARTR constitutes a line of railroad for which an exemption from the Board is required because it is ARTR's initial rail acquisition and operation, notwithstanding that it might otherwise be considered to be spur, industrial, and/or switching track exempt from the Board's acquisition and operation authority under 49 U.S.C. 10906.²

² See Effingham RR Co.—Pet. for Declaratory Order, 2 S.T.B. 606 (1997), aff'd sub nom. United Transp. Union—Ill. Legislative Bd. v. Surface Transp. Bd., 183 F.3d 606 (7th Cir. 1999); see also Bulkmatic RR.—Acquire and Operate—Bulkmatic Transport, 6 S.T.B. 481 (2002).

The earliest this transaction may be consummated is December 25, 2009, the effective date of the exemption (30 days after the verified notice of exemption was filed).

ARTR certifies that its projected revenues as a result of the transaction will not exceed those that would qualify it as a Class III rail carrier.

Pursuant to the Consolidated Appropriations Act, 2008, Public Law 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

If ARTR's verified notice contains false or misleading information, the exemption is void ab initio. Petitions to revoke the exemption under 49 U.S.C. 10502(d) may be filed at any time. The filing of a petition to revoke will not automatically stay the effectiveness of the exemption. Stay petitions must be filed no later than December 18, 2009 (at least 7 days before the exemption becomes effective).

An original and 10 copies of all pleadings, referring to STB Finance Docket No. 35329, must be filed with the Surface Transportation Board, 395 E Street, SW., Washington, DC 20423-0001. In addition, one copy of each pleading must be served on David C. Dillon, Dillon & Nash, Ltd., 111 West Washington Street, Suite 719, Chicago, IL 60602.

Board decisions and notices are available on our Web site at http://www.stb.dot.gov.

Decided: December 7, 2009.
By the Board, Rachel D. Campbell, Director, Office of Proceedings.
Kulunie L. Cannon,
Clearance Clerk.

[FR Doc. E9-29495 Filed 12-10-09; 8:45 am]

BILLING CODE 4915-01-P